DEPARTMENT OF THE TREASURY

Submission for OMB Review; Comment Request

November 17, 2016.

The Department of the Treasury will submit the following information collection request to the Office of Management and Budget (OMB) for review and clearance in accordance with the Paperwork Reduction Act of 1995, Public Law 104-13, on or after the date of publication of this notice.

DATES: Comments should be received on or before December 22, 2016 to be assured of consideration.

ADDRESSES: Send comments regarding the burden estimates, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submission may be obtained by emailing PRA@treasury.gov, calling (202) 622-0934, or viewing the entire information collection request at www.reginfo.gov.

SUPPLEMENTARY INFORMATION:

Bureau of the Fiscal Service (FS)

OMB Control Number: 1530-0066.

Type of Review: Extension without change of a currently approved collection.

Title: CMIA Annual Report and Interest Calculation Cost Claims.

Abstract: PL 101-453 requires that States and Territories must report interest liabilities for major Federal assistance programs annually. States and Territories may report interest calculation cost claims for compensation of administrative costs.

Affected Public: State, Local, and Tribal Governments.

Estimated Total Annual Burden Hours: 22,036.

Bob Faber,
Acting Treasury PRA Clearance Officer.

[FR Doc. 2016-28093 Filed 11-21-16; 8:45 am]

BILLING CODE 4810-AS-P